GENERAL SERVICES ADMINISTRATION

[Notice-Q-2024-03; Docket No. 2024-0002; Sequence No. 17]

Federal Secure Cloud Advisory Committee Notification of Upcoming Meeting

AGENCY: Federal Acquisition Service (Q), General Services Administration (GSA).

ACTION: Meeting notice.

SUMMARY: As stipulated by the Federal Advisory Committee Act (FACA), as amended, GSA is hereby giving notice of an open public meeting of the Federal Secure Cloud Advisory Committee (FSCAC). Information on attending and providing public comment is under the SUPPLEMENTARY INFORMATION section.

DATES: The open public meeting will be held on Monday, May 20, 2024, from 11 a.m. to 3 p.m., Eastern Standard Time (EST). The agenda for the meeting will be made available prior to the meeting online at https://gsa.gov/fscac.

ADDRESSES: The meeting will be held in person at 1800 F St. NW, Room 1425, Washington, DC 20270. The meeting will also be accessible via live stream. Registrants will receive the live stream information before the meeting.

FOR FURTHER INFORMATION CONTACT: Michelle White, Designated Federal Officer (DFO), FSCAC, GSA, 703-489-4160, fscac@gsa.gov. Additional information about the Committee, including meeting materials and agendas, will be available online at https://gsa.gov/fscac.

SUPPLEMENTARY INFORMATION:

Background

GSA, in compliance with the FedRAMP Authorization Act of 2022 (the Act), established the FSCAC, a statutory advisory committee in accordance with the provisions of FACA, as amended (5 U.S.C. 10). The Federal Risk and Authorization Management Program (FedRAMP) within GSA is responsible for providing a standardized, reusable approach to security assessment and authorization for cloud computing products and services that process unclassified information used by agencies. The FSCAC will provide advice and recommendations to the Administrator of GSA, the FedRAMP Board, and agencies on technical, financial, programmatic, and operational matters regarding the secure adoption of cloud computing products and services. The FSCAC will ensure effective and ongoing coordination of agency adoption, use, authorization, monitoring, acquisition, and security of cloud computing products and services to enable agency mission and administrative priorities. The purposes of the Committee are:

• To examine the operations of FedRAMP and determine ways that authorization processes can continuously be improved, including the following:

○ Measures to increase agency reuse of FedRAMP authorizations.

○ Proposed actions that can be adopted to reduce the burden, confusion, and cost associated with FedRAMP authorizations for cloud service providers.

○ Measures to increase the number of FedRAMP authorizations for cloud computing products and services offered by small businesses concerns (as defined by section 3(a) of the Small Business Act (15 U.S.C. 632(a)).

○ Proposed actions that can be adopted to reduce the burden and cost of FedRAMP authorizations for agencies.

• Collect information and feedback on agency compliance with, and implementation of, FedRAMP requirements.

• Serve as a forum that facilitates communication and collaboration among the FedRAMP stakeholder community.

The FSCAC will meet no fewer than three (3) times a calendar year. Meetings shall occur as frequently as needed, called, and approved by the DFO.

Purpose of the Meeting and Agenda

The May 20, 2024 public meeting will be dedicated to reviewing the Committee's annual report, required under § 3616(h)(2) of the Act, as well as continued deliberations in order to determine the Committee's next priorities. FedRAMP staff may be in attendance to respond to Committee questions as needed and called upon. A vote will be held to approve the Committee's annual report to Congress, and a vote will be held to approve the priority or priorities the Committee chooses to work on next. The meeting agenda will be posted on https://gsa.gov/fscac prior to the May 20, 2024 meeting.

Meeting Attendance

This meeting is open to the public and can be attended in-person or virtually using the live stream link. Meeting registration and information is available at https://gsa.gov/fscac. Registration for attending the meeting in person is highly encouraged by 5 p.m. EST on Monday, May 13, 2024 for easier building access. In-person public attendance is limited to the available space, and seating is available on a first come, first serve basis.

If you plan to attend virtually, you will need to register by 5 p.m. EST on Wednesday, May 15, 2024 to obtain the virtual meeting information. After registration, individuals will receive meeting attendance information via email.

For information on services for individuals with disabilities, or to request accommodation for a disability, please email the FSCAC staff at FSCAC@gsa.gov at least 10 days prior to the meeting. Live captioning may be provided virtually, and ASL interpreters may be present onsite.

Public Comment

Members of the public attending in person or virtually will have the opportunity to provide oral public comment during the FSCAC meeting by indicating their preference when registering. Written public comments can be submitted at any time by completing the public comment form on our website, https://gsa.gov/fscac. All written public comments will be provided to FSCAC members in advance of the meeting if received by Friday, May 10, 2024.

Margaret Dugan,
Service-Level Liaison, Federal Acquisition Service, General Services Administration.

[FR Doc. 2024-08086 Filed 4-16-24; 8:45 am]

BILLING CODE 6820-34-P